ENVIRONMENTAL PROTECTION AGENCY

[EPA-HQ-RCRA-2015-0219; FRL-9930-05-OEI]

Information Collection Request Submitted to OMB for Review and Approval; Comment Request; NESHAP for Hazardous Waste Combustors (Renewal)

AGENCY: Environmental Protection Agency (EPA).

ACTION: Notice.

SUMMARY: The Environmental Protection has submitted an information collection request (ICR), “NESHAP for Hazardous Waste Combustors (40 CFR part 63, subpart EEE) (Renewal)” (EPA ICR No. 1773.11, OMB Control No. 2050-0171) to the Office of Management and Budget (OMB) for review and approval in accordance with the Paperwork Reduction Act (44 U.S.C. 3501 et seq.). This is a proposed extension of the ICR, which is currently approved through July 31, 2015. Public comments were previously requested via the Federal Register (80 FR 20223) on April 15, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 24, 2015.

ADDRESSES: Submit your comments, referencing Docket ID Number EPA-HQ-RCRA-2015-0219, to (1) EPA online using www.regulations.gov (our preferred method), by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: John Sager, Office of Resource Conservation and Recovery (mail code 5304P), Environmental Protection Agency, 1200 Pennsylvania Ave. NW., Washington, DC 20460; telephone number: 703-308-7256; fax number: 703-308-0514; email address: sager.john@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The affected entities are subject to the General Provisions of the National Emission Standards for Hazardous Air Pollutants (NESHAP) at 40 CFR part 63, subpart A, and any changes, or additions to the General Provisions specified at 40 CFR part 63, subpart EEE. Hazardous waste combustors include: Hazardous waste incinerators, hazardous waste cement kilns, hazardous waste lightweight aggregate kilns, hazardous waste solid fuel boilers, hazardous waste liquid fuel boilers, and hazardous waste hydrochloric acid production furnaces. Owners or operators of the affected facilities must submit a one-time-only report of any physical or operational changes, notification of exceedances, notification of performance test and continuous monitoring system evaluation, notification of intent to comply, notification of compliance, notification if the owner or operator elects to comply with alternative requirements, initial performance tests, and periodic reports and results.

Form numbers: None.

Respondents/affected entities: Owners or operators of combustion units burning hazardous waste, States.

Respondent's obligation to respond: Mandatory (40 CFR part 63, subpart EEE).

Estimated number of respondents: 192.

Frequency of response: Occasionally.

Total estimated burden: 142,381 hours (per year). Burden is defined at 5 CFR 1320.03(b).

Total estimated cost: $19,945,848 (per year), includes $4,052,444 annualized capital or operation & maintenance costs.

Changes in the estimates: There is decrease of 66 hours in the total estimated respondent burden compared with the ICR currently approved by OMB. This small decrease is due to the slight decrease in the number of incinerators from last time.

Courtney Kerwin,
Acting Director, Collection Strategies Division.

[FR Doc. 2015-18025 Filed 7-22-15; 8:45 am]

BILLING CODE 6560-50-P